FEDERAL COMMUNICATIONS COMMISSION

47 CFR Part 73

[MB Docket No. 21-51; RM-11876; DA 21-584; FR ID 28092]

Television Broadcasting Services Cedar Rapids, Iowa

AGENCY: Federal Communications Commission.

ACTION: Final rule.

SUMMARY: On February 12, 2021, the Media Bureau, Video Division (Bureau) issued a Notice of Proposed Rulemaking in response to a petition for rulemaking filed by Gray Television Licensee, LLC (Petitioner), the licensee of KCRG-TV, channel 9 (ABC), Cedar Rapids, Iowa, requesting the substitution of channel 32 for channel 9 at Cedar Rapids in the DTV Table of Allotments. For the reasons set forth in the Report and Order referenced below, the Bureau amends FCC regulations to substitute channel 32 for channel 9 at Cedar Rapids.

DATES: Effective May 25, 2021.

FOR FURTHER INFORMATION CONTACT: Andrew Manley, Media Bureau, at (202) 418-0596 or Andrew Manley@fcc.gov.

SUPPLEMENTARY INFORMATION: The proposed rule was published at 86 FR 15451 on March 23, 2021. The Petitioner filed comments in support of the petition reaffirming its commitment to apply for channel 32. No other comments were received. According to the Petitioner, many of its viewers experience significant difficulty receiving KCRG-TV's signal. In addition, Gray demonstrated that the proposed channel change will result in no loss of service; while the traditional analysis of noise limited service contours show a de minimis population loss, analysis of the terrain limited service contours results in no loss.

This is a synopsis of the Commission's Report and Order, MB Docket No. 21-51; RM-11876; DA 21-584, adopted May 17, 2021, and released May 17, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622, in paragraph (i), amend the table entitled “Post-Transition Table of DTV Allotments,” under Iowa, by revising the entry for “Cedar Rapids” to read as follows:

§ 73.622 Digital television table of allotments.

* * * * *

(i) * * *

Community | Channel no.
* * * * *
Iowa
* * * * *
Cedar Rapids | 27, 29, 32, 47
* * * * *

[FR Doc. 2021-11050 Filed 5-24-21; 8:45 am]

BILLING CODE 6712-01-P